DEPARTMENT OF HEALTH AND HUMAN SERVICES

Health Resources and Services Administration

Charter Renewal for the Advisory Committee on Organ Transplantation

AGENCY: Health Resources and Services Administration (HRSA), Department of Health and Human Services (HHS).

ACTION: Notice.

SUMMARY: In accordance with the Federal Advisory Committee Act (FACA), HHS is hereby giving notice that the Advisory Committee on Organ Transplantation (ACOT or Committee) has been renewed. The effective date of the charter renewal is August 31, 2022.

FOR FURTHER INFORMATION CONTACT: Shelley Tims Grant (Designated Federal Officer); HRSA Division of Transplantation, HRSA, 5600 Fishers Lane, 08W67, Rockville, Maryland 20857; 301-443-8036; or sgrant@hrsa.gov.

SUPPLEMENTARY INFORMATION: ACOT provides advice and recommendations to the Secretary of HHS (Secretary) on policy, program development, and other matters of significance concerning the activities pursuant to 42 U.S.C. 217a; section 222 of the Public Health Service Act. ACOT may provide advice to the Secretary on proposed Organ Procurement and Transplantation Network policies and such other matters as the Secretary determines.

The renewed charter for ACOT was approved on August 25, 2022. The filing date of the renewed charter is August 31, 2022. The renewal of the ACOT charter gives authorization for the committee to operate until August 31, 2024.

A copy of the ACOT charter is available on the ACOT website at https://www.hrsa.gov/advisory-committees/organ-transplantation. A copy of the charter can also be obtained by accessing the FACA database that is maintained by the Committee Management Secretariat under the General Services Administration. The website address for the FACA database is http://www.facadatabase.gov/.

Maria G. Button,
Director, Executive Secretariat.

[FR Doc. 2022-18963 Filed 9-1-22; 8:45 am]

BILLING CODE 4165-15-P